DEPARTMENT OF TRANSPORTATION

[DOT-OST-2023-0133]

Department of Transportation Advisory Committee on Human Trafficking: Notice of Public Meeting

AGENCY: Office of the Secretary of Transportation, U.S. Department of Transportation.

ACTION: Notice of public meeting.

SUMMARY: This notice announces a hybrid meeting of the Department of Transportation Advisory Committee on Human Trafficking. Committee members are highly encouraged to attend in-person.

DATES: The meeting will be held on October 3, 2023, from 9:30 a.m. to 5:00 p.m. EDT.

ADDRESSES: The meeting will be held at the U.S. Department of Transportation, 1200 New Jersey Avenue SE, Washington, DC 20590. Any person requiring accessibility accommodations should contact the Official listed in the next section.

FOR FURTHER INFORMATION CONTACT: Maha Alkhateeb, Office of International Transportation and Trade, U.S. Department of Transportation, at trafficking@dot.gov or (202) 366-4398. Also visit the ACHT website at https://www.transportation.gov/stophumantrafficking/acht.

SUPPLEMENTARY INFORMATION:

I. Background

ACHT was re-chartered on July 29, 2022, using the Department's authorities under the Bipartisan Infrastructure Law (BIL) (Pub. L. 117-58). The ACHT was initially established as mandated by Sec. 5(a) of the 2018 Combating Human Trafficking in Commercial Vehicles Act (Pub. L. 115-99). Sec. 23020 of the BIL requires the Secretary of Transportation, acting through the ACHT and in coordination with the Attorney General, to submit a triennial counter-trafficking report with recommendations for countering human trafficking, an assessment of best practices by transportation stakeholders, and human trafficking violations involving commercial motor vehicles.

II. Agenda

At the October 3, 2023 meeting, the agenda will cover the following topics:

• Welcome and Introductions

• ACHT Overview and Requirements

• DOT's Counter-Trafficking Efforts

• Public Participation

• Subcommittees, Next Steps, and Timeline

A final agenda that includes a virtual participation link will be posted on the ACHT internet website at https://www.transportation.gov/stophumantrafficking/acht at least one week in advance of the meeting.

III. Public Participation

The hybrid meeting will be open to the public in-person and virtually. Members of the public who wish to attend are asked to register, including name, affiliation, and whether they plan to attend in-person or virtually, to trafficking@dot.gov by September 25, 2023. Individuals requesting accessibility accommodations, such as sign language, interpretation, or other ancillary aids, may do so via email at: trafficking@dot.gov by September 25, 2023.

There will be 30 minutes allotted for oral comments from members of the public joining the meeting. To accommodate as many speakers as possible, the time for public comments may be limited. Individuals wishing to reserve speaking time during the meeting must submit a request at the time of registration, as well as the name, address, and organizational affiliation of the proposed speaker. If the number of registrants requesting to make statements is greater than can be reasonably accommodated during the meeting, the Office of the Secretary may conduct a lottery to determine the speakers. Speakers are requested to submit a written copy of their prepared remarks by 5:00 p.m. EDT on September 25, 2023, for inclusion in the meeting records and for circulation to ACHT members. Written comments timely submitted from those participants not selected to speak will be accepted and considered as part of the meeting record.

Persons who wish to submit written comments for consideration by ACHT during the meeting must submit them no later than 5:00 p.m. EDT on September 25, 2023, to ensure transmission to ACHT prior to the meeting. Comments received after that date and time will be distributed to the members but may not be reviewed prior to the meeting.

Copies of the meeting minutes will be available on the ACHT internet website at https://www.transportation.gov/stophumantrafficking/acht.

Issued in Washington, DC, on August 29, 2023.
Carol Annette Petsonk,
Assistant Secretary, Aviation and International Affairs, U.S. Department of Transportation.

[FR Doc. 2023-19061 Filed 9-1-23; 8:45 am]

BILLING CODE 4910-9X-P